DEPARTMENT OF ENERGY

Federal Energy Regulatory Commission

[Docket No. RP00-315-000]

Koch Gateway Pipeline Company; Notice of Cash Out Report

June 6, 2000.

Take notice that on June 1, 2000, Koch Gateway Pipeline Company (Koch) tendered for filing its cash-in/cash-out report for the period April 1, 1999 through March 31, 2000.

Koch states that copies of this filing have been served upon Koch's customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before June 13, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.
Acting Secretary.

[FR Doc. 00-14709 Filed 6-9-00; 8:45 am]

BILLING CODE 6717-01-M